SURFACE TRANSPORTATION BOARD

[Docket No. FD 36496]

Application of the National Railroad Passenger Corporation Under 49 U.S.C. 24308(e)—CSX Transportation, Inc., and Norfolk Southern Railway Company

AGENCY: Surface Transportation Board.

ACTION: Notice of hearing.

SUMMARY: The Board will hold a hearing involving the National Railroad Passenger Corporation (Amtrak), CSX Transportation, Inc. (CSXT), Norfolk Southern Railway Company (NSR), the Alabama State Port Authority and its rail carrier division, the Terminal Railway Alabama State Docks (collectively, the “Port”; and with Amtrak, CSXT, and NSR, the “Parties”), and the City of Mobile, Ala. (Mobile), if Mobile chooses to participate. The hearing will take place on February 14, 2024, at 11 a.m. EST in the hearing room of the Board's headquarters. The hearing will also be available for public viewing on YouTube.

DATES: The hearing will take place on February 14, 2024, at 11 a.m. EST.

ADDRESSES: The hearing will take place in the hearing room of the Board's headquarters, located at 395 E Street SW, Washington, DC 20423-0001.

FOR FURTHER INFORMATION CONTACT: Jonathon Binet at (202) 245-0368. If you require an accommodation under the Americans with Disabilities Act, please call (202) 245-0245.

SUPPLEMENTARY INFORMATION: On March 16, 2021, Amtrak filed an application with the Board, pursuant to 49 U.S.C. 24308(e), seeking an order requiring CSXT and NSR to allow Amtrak to operate additional intercity passenger trains, consisting of two round-trips per day, over the rail lines of CSXT and NSR between New Orleans, La., and Mobile, Ala. Following 11 days of evidentiary hearings in April and May of 2022, the Parties notified the Board on November 21, 2022, that they had reached a settlement and asked the Board to hold the proceeding in abeyance, which the Board did the next day. Subsequently, the Board twice continued to hold the proceeding in abeyance at the Parties' request as they worked to implement their settlement agreement. The Parties were scheduled to file a status report by February 1, 2024 (February Status Report).

By decision served January 19, 2024, the Board directed the Parties to provide, in the February Status Report, detailed information regarding the status of the implementation of the settlement agreement and, in particular, to describe any issues that remain outstanding. See Appl. of the Nat'l R.R. Passenger Corp. Under 49 U.S.C. 24308(e)—CSX Transp., Inc., FD 36496, slip op. at 2 (STB served Jan. 19, 2024). The Board also scheduled a hearing with the Parties on February 14, 2024, for the Parties to report more fully on the settlement status and invited Mobile to participate in the hearing. Id. The Board noted that additional details on the hearing would be provided in the hearing notice published in the Federal Register.

The Parties jointly filed the February Status Report on February 1, 2024. The Board will conduct a hearing to obtain information about the status of the implementation of the settlement agreement.

The hearing will take place on February 14, 2024, at 11 a.m. EST, in the hearing room of the Board's headquarters, located at 395 E Street SW, Washington, DC 20423-0001. Participation will be limited to the Parties' counsel and a representative from Mobile, if Mobile chooses to participate. The hearing will be available for public viewing on YouTube. If at any point it is necessary to discuss confidential and/or highly confidential information, all those not authorized to view the confidential and/or highly confidential information will be excused from the hearing room.

Instructions for Attendance at Hearing

All persons attending the hearing must use the main entrance to the Board's headquarters, located at 395 E Street, SW There will be no reserved seating. There is public parking in the building. The two closest Metro stops are Federal Center SW (3rd and D Streets SW, serving the Blue, Orange, and Silver Lines) and L'Enfant Plaza (6th and D Streets SW, serving the Yellow, Green, Blue, Orange, and Silver Lines). Upon arrival, check in at the security desk in the main lobby. Be prepared to produce valid photographic identification (driver's license or local, state, or federal government identification); sign in at the security desk; submit to an inspection of all briefcases, handbags, etc.; and pass through a metal detector. Persons who exit the building during the hearing will be subject to these security procedures again if they choose to re-enter the building.

Laptops and recorders may be used in the hearing room, and Wi-Fi will be available.¹ Cell phones may be used quietly in the corridor outside the hearing room or in the building's main lobby.

¹ The password will be available in the hearing room.

Members of the media should contact Michael Booth in the Office of Public Assistance, Governmental Affairs, and Compliance at (202) 245-1760 if they plan to attend the hearing.

The hearing room complies with the Americans with Disabilities Act, and persons needing such accommodations should call (202) 245-0245 by the close of business on February 12, 2024.

The hearing will be available for public viewing at www.youtube.com/channel/UCgd2FPpKSpQZ57p771aafNg/live. A link to the hearing can also be accessed through the Board's website at www.stb.gov, under “Quick Links” on the homepage, by clicking on “WATCH LIVE HEARINGS HERE.” If confidential or highly confidential materials are to be presented, all attendees who are not authorized to view the confidential or highly confidential information will be asked to leave the hearing room during the presentation of such information and the YouTube stream of the hearing will be interrupted.

Board Releases and Transcript Availability: Decisions and notices of the Board, including this notice, are available on the Board's website at www.stb.gov. A recording of the hearing and a transcript will be posted on the Board's website when they become available.

It is ordered:

1. A hearing is scheduled for February 14, 2024, at 11:00 a.m. EST, in the hearing room of the Board's headquarters.

2. This decision is effective on its service date.

3. This decision will be published in the Federal Register.

Decided: February 6, 2024.
By the Board, Mai T. Dinh, Director, Office of Proceedings.
Jeffrey Herzig,
Clearance Clerk.

[FR Doc. 2024-02750 Filed 2-8-24; 8:45 am]

BILLING CODE 4915-01-P